DEPARTMENT OF TRANSPORTATION

Federal Aviation Administration

14 CFR Part 95

[Docket No. 31039; Amdt. No. 522]

IFR Altitudes; Miscellaneous Amendments

AGENCY: Federal Aviation Administration (FAA), DOT.

ACTION: Final rule

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, October 15, 2015.

FOR FURTHER INFORMATION CONTACT: Richard A. Dunham, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on September 11, 2015.
John Duncan,
Director, Flight Standards Service.

Adoption of the Amendment

Accordingly, pursuant to the authority delegated to me by the Administrator, part 95 of the Federal Aviation Regulations (14 CFR part 95) is amended as follows effective at 0901 UTC, October 15, 2015.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 522, effective date October 15, 2015]
From | To | MEA
COLOR ROUTES
§ 95.512 GREEN FEDERAL AIRWAY G12 IS AMENDED TO READ IN PART
ELFEE, AK NDB | BORLAND, AK NDB/DME | 10000
BORLAND, AK NDB/DME | PORT HEIDEN, AK NDB/DME | 10000
PORT HEIDEN, AK NDB/DME | CHINOOK, AK NDB | 2500
§ 95.6001 VICTOR ROUTES—U.S.
§ 95.6002 VOR FEDERAL AIRWAY V2 IS AMENDED TO READ IN PART
*BEEZR, WA FIX | ELLENSBURG, WA VORTAC | **8000
*9000—MRA
**7200—MOCA
§ 95.6006 VOR FEDERAL AIRWAY V6 IS AMENDED TO READ IN PART
DRYER, OH VOR/DME | *MOROW, OH FIX | 3100
*5000—MCA MOROW, OH FIX, E BND
MOROW, OH FIX | *HIRES, OH FIX | **5000
*3500—MCA HIRES, OH FIX, W BND
**2700—MOCA
**3000—GNSS MEA
§ 95.6031 VOR FEDERAL AIRWAY V31 IS AMENDED TO READ IN PART
ROCHESTER, NY VOR/DME | *AIRCO, NY FIX | 4000
*6000—MRA
§ 95.6031 VOR FEDERAL AIRWAY V31 IS AMENDED TO DELETE
AIRCO, NY FIX | U.S. CANADIAN BORDER | *8000
*4000—GNSS MEA
§ 95.6036 VOR FEDERAL AIRWAY V36 IS AMENDED TO DELETE
U.S. CANADIAN BORDER | BUFFALO, NY VOR/DME | #*6000
*2700—MOCA
*3000—GNSS MEA
#BUFFALO R-314 UNUSABLE BELOW 6000
§ 95.6077 VOR FEDERAL AIRWAY V77 IS AMENDED TO READ IN PART
*FLOSS, KS FIX | HEYDN, KS FIX | **5000
*5000—MRA
**2900—MOCA
§ 95.6098 VOR FEDERAL AIRWAY V98 IS AMENDED TO DELETE
U.S. CANADIAN BORDER | MASSENA, NY VORTAC | 2100
MASSENA, NY VORTAC | U.S. CANADIAN BORDER | #*2100
*2100—GNSS MEA
#GNSS MEA ONLY
MASSENA R-085 UNUSABLE. GNSS REQUIRED
§ 95.6132 VOR FEDERAL AIRWAY V132 IS AMENDED TO READ IN PART
WAIVE, KS FIX | *FLOSS, KS FIX | 3300
*5000—MRA
*5000—MCA FLOSS, KS FIX, SE BND
§ 95.6164 VOR FEDERAL AIRWAY V164 IS AMENDED TO DELETE
U.S. CANADIAN BORDER | *BULGE, NY FIX | 3100
*6000—MCA BULGE, NY FIX, S BND
BULGE, NY FIX | BUFFALO, NY VOR/DME | *6000
*2100—MOCA
*3000—GNSS MEA
§ 95.6252 VOR FEDERAL AIRWAY V252 IS AMENDED TO DELETE
U.S. CANADIAN BORDER | BULGE, NY FIX | 3100
BULGE, NY FIX | AIRCO, NY FIX | *4000
*2400—MOCA
§ 95.6252 VOR FEDERAL AIRWAY V252 IS AMENDED TO READ IN PART
*AIRCO, NY FIX | GENESEO, NY VOR/DME | **4000
*6000—MRA
**2800—MOCA
§ 95.6280 VOR FEDERAL AIRWAY V280 IS AMENDED TO READ IN PART
CHISUM, NM VORTAC | *FRAIZ, NM FIX | **6500
*7500—MRA
**5900—MOCA
*FRAIZ, NM FIX | DEBRA, NM FIX | **7500
*7500—MRA
**5900—MOCA
DEBRA, NM FIX | TEXICO, TX VORTAC
NE BND |  | *6500
SW BND |  | *7500
*5800—MOCA
BUHLS, KS FIX | STONS, KS FIX | *4500
*2900—MOCA
STONS, KS FIX | HEYDN, KS FIX | *5000
*2900—MOCA
§ 95.6298 VOR FEDERAL AIRWAY V298 IS AMENDED TO READ IN PART
PERTT, WA FIX | YAKIMA, WA VORTAC | 6600
§ 95.6426 VOR FEDERAL AIRWAY V426 IS AMENDED TO READ IN PART
CARLETON, MI VORTAC | SALFE, OH FIX | *4000
*3000—GNSS MEA
SALFE, OH FIX | AMRST, OH FIX | #
#UNUSABLE
§ 95.6450 VOR FEDERAL AIRWAY V450 IS AMENDED TO READ IN PART
MUSKEGON, MI VORTAC | GIBER, MI FIX | *3000
*2400—MOCA
GIBER, MI FIX | LUGGS, MI FIX | *4000
*2400—MOCA
LUGGS, MI FIX | FLINT, MI VORTAC | *3000
*2400—MOCA

Airway segment: From | Airway segment: To | Changeover points: Distance | Changeover points: From
§ 95.8003 VOR FEDERAL AIRWAY CHANGEOVER POINT
V2 IS AMENDED TO ADD CHANGEOVER POINT
SEATTLE, WA VORTAC | ELLENSBURG, WA VORTAC | 47 | SEATTLE.
V198 IS AMENDED TO ADD CHANGEOVER POINT
SEATTLE, WA VORTAC | ELLENSBURG, WA VORTAC | 47 | SEATTLE.
V450 IS AMENDED TO DELETE CHANGEOVER POINT
MUSKEGON, MI VORTAC | FLINT, MI VORTAC | 54 |
MUSKEGON

[FR Doc. 2015-23265 Filed 9-15-15; 8:45 am]

BILLING CODE 4910-13-P